DEPARTMENT OF THE INTERIOR

National Park Service

[Account No. 3086-SYM]

National Capital Memorial Advisory Commission

AGENCY: National Park Service, Interior.

ACTION: Notice of public meeting.

SUMMARY: Notice is hereby given that the National Capital Memorial Advisory Commission (the Commission) plans to meet and discuss currently authorized and proposed memorials in the District of Columbia and its environs.

DATE: Wednesday, November 17, 2010.

ADDRESSES: National Building Museum, Room 312, 401 F Street, NW., Washington, DC 20001.

FOR FURTHER INFORMATION CONTACT: Ms. Nancy Young, Secretary to the Commission, by telephone at (202) 619-7097, by e-mail at nancy_young@nps.gov, by telefax at (202) 619-7420, or by mail at the National Capital Memorial Advisory Commission, 1100 Ohio Drive, SW., Room 220, Washington, DC 20242.

SUPPLEMENTARY INFORMATION: In addition to discussing general matters and conducting routine business, the Commission will consider one action item: H.R. 3886, a bill to establish a memorial to Benjamin Banneker in the District of Columbia. There will also be two non-action items before the Commission:

(1) Design consultation—Dwight D. Eisenhower Memorial, and

(2) Status report—John Adams Memorial.

The meeting will be open to the public. Persons who wish to file a written statement or testify at the meeting or who want further information concerning the meeting may contact Ms. Nancy Young, Secretary to the Commission. Before including your address, phone number, e-mail address, or other personal identifying information in your comment, you should be aware that your entire comment—including your personal identifying information—may be made publicly available at any time. While you can ask us in your comment to withhold your personal identifying information from public review, we cannot guarantee that we will be able to do so.

The Commission was established by Public Law 99-652, the Commemorative Works Act (40 U.S.C. Chapter 89 et seq.), to advise the Secretary of the Interior (the Secretary) and the Administrator, General Services Administration, (the Administrator) on policy and procedures for establishment of, and proposals to establish, commemorative works in the District of Columbia and its environs, as well as such other matters as it may deem appropriate concerning commemorative works.

The Commission examines each memorial proposal for conformance to the Commemorative Works Act, and makes recommendations to the Secretary and the Administrator and to Members and Committees of Congress. The Commission also serves as a source of information for persons seeking to establish memorials in Washington, DC and its environs.

The members of the Commission are as follows:

Director, National Park Service;

Administrator, General Services Administration;

Chairman, National Capital Planning Commission;

Chairman, Commission of Fine Arts;

Mayor of the District of Columbia;

Architect of the Capitol;

Chairman, American Battle Monuments Commission;

Secretary of Defense.

Dated: October 8, 2010.
Lisa A. Mendelson-Ielmini,
Regional Director, National Capital Region.

[FR Doc. 2010-28292 Filed 11-8-10; 8:45 am]

BILLING CODE 4312-JK-P